DEPARTMENT OF COMMERCE

Bureau of the Census

[Docket Number 101025512-0512-02]

Annual Surveys in the Manufacturing Area

AGENCY: Bureau of the Census, Department of Commerce.

ACTION: Notice of Determination.

SUMMARY: The Bureau of the Census (Census Bureau) is conducting the 2010 Annual Surveys in the Manufacturing Area. The 2010 Annual Surveys consist of the Current Industrial Reports surveys, the Annual Survey of Manufactures, the Business R&D and Innovation Survey, and the Manufacturers' Unfilled Orders Survey. We have determined that annual data collected from these surveys are needed to aid the efficient performance of essential governmental functions, and have significant application to the needs of the public and industry. The data derived from these surveys, most of which have been conducted for many years, are not publicly available from nongovernmental or other governmental sources.

ADDRESSES: The Census Bureau will furnish report forms to organizations included in the survey. Additional copies are available upon written request to the Director, U.S. Census Bureau, Washington, DC 20233-0101.

FOR FURTHER INFORMATION CONTACT: Mendel D. Gayle, Chief, Manufacturing and Construction Division at (301) 763-4587 or via the Internet at mendel.d.gayle@census.gov.

SUPPLEMENTARY INFORMATION: The Census Bureau is authorized to conduct mandatory surveys necessary to furnish current data on the subjects covered by the major censuses authorized by Title 13, United States Code, sections 61, 81, 131, 182, 193, 224, and 225.

These surveys will provide continuing and timely national statistical data on manufacturing for the period between economic censuses. The data collected in the surveys will be within the general scope and nature of those inquiries covered in the economic census. The next economic census will be conducted for the year 2012.

Current Industrial Reports

Most of the following commodity or product surveys provide data on shipments or production, stocks, unfilled orders, orders booked, consumption, and so forth. Reports will be required of all, or a sample of, establishments engaged in the production of the items covered by the following list of annual surveys:

Survey Title

MA311D Confectionery

MA314Q Carpets and Rugs

MA321T Lumber Production and Mill Stocks

MA325F Paints and Allied Products

MA325G Pharmaceutical Preparations, except Biologicals

MA327C Refractories

MA327E Consumer, Scientific, Technical, and Industrial Glassware

MA331B Steel Mill Products

MA332Q Antifriction Bearings

MA333A Farm Machinery and Lawn and Garden Equipment

MA333D Construction Machinery

MA333F Mining Machinery and Mineral Processing Equipment

MA333M Refrigeration, Air-conditioning, and Warm Air Heating Equipment

MA333N Fluid Power Products for Motion Control (Including Aerospace)

MA333P Pumps and Compressors

MA334A Electromedical Equipment and Analytical Instruments

MA334C Control Instruments

MA334D Defense, Navigational and Aerospace Electronics

MA334M Consumer Electronics

MA334Q Semiconductors, Electronics Components, and Semiconductor Manufacturing Equipment

MA334T Meters and Test Devices

MA335E Electric Housewares and Fans

MA335F Major Household Appliances

MA335J Insulated Wire and Cable

MA335K Wiring Devices and Supplies

MA336G Civil Aircraft and Aircraft Engines and Aerospace Industry (Orders, Sales and Backlog)

The following list of surveys represents annual counterparts of monthly and quarterly surveys. These surveys will cover only those establishments that are not canvassed, or do not report, in the more frequent surveys. Accordingly, there will be no duplication in reporting.

The content of these annual reports (listed below) will be identical to that of the monthly and quarterly reports:

Survey Title

M311C Corn (Wet & Dry Producers of Ethanol)

M311H Animal and Vegetable Fats and Oils (Warehouse Stocks)

M311J Oilseeds, Beans, and Nuts (Primary Producers)

M311K Fats and Oils (Renderers)

M311L Fats and Oils

M311M Animal and Vegetable Fats and Oils (Consumption and Stocks)

M311N Animal and Vegetable Fats and Oils (Production, Consumption and Stocks)

M313N Cotton and Raw Linters in Public Storage

M313P Consumption on the Cotton System and Stocks

M336G Civil Aircraft and Aircraft Engines

MQ311A Flour Milling Products

MQ313A Textiles

MQ315A Apparel

MQ315B Socks Production

MQ325A Inorganic Chemicals

MQ325B Fertilizers and Related Chemicals

MQ325F Paint, Varnish, and Lacquer

MQ327D Clay Construction Products

MQ333W Metalworking Machinery

MQ334P Telecommunications

MQ334R Computers and Peripheral Equipment

Annual Survey of Manufactures

The Annual Survey of Manufactures collects industry statistics, such as total value of shipments, employment, payroll, workers' hours, capital expenditures, cost of materials consumed, supplemental labor costs, and so forth. This survey is conducted on a sample basis, and covers all manufacturing industries, including data on plants under construction but not yet in operation.

Business R&D and Innovation Survey

The Business R&D and Innovation Survey (BRDIS) measures spending on research and development activities by United States businesses. This survey replaced the Survey of Industrial Research and Development that had been collected since the 1950's. The BRDIS collects global as well as domestic spending information, more detailed information about the R&D workforce, and information regarding innovation and intellectual property from U.S. businesses. The Census Bureau collects and compiles this information in accordance with a joint project agreement between the National Science Foundation (NSF) and the Census Bureau. The NSF publishes the results in its publication series. All data items are collected on a mandatory basis under the authority of Title 13, United States Code.

Manufacturers' Unfilled Orders Survey

The Manufacturers' Unfilled Orders Survey collects data on sales and unfilled orders in order to provide annual benchmarks for unfilled orders for the monthly Manufacturers' Shipments, Inventories, and Orders (M3) survey. The Annual Survey of Manufactures (ASM) provides annual benchmarks for the shipments and inventory data in this monthly survey. The survey data will also be used to determine whether it is necessary to collect unfilled orders data for specific industries on a monthly basis; some industries are not requested to provide unfilled orders data on the M3 Survey.

Notwithstanding any other provision of law, no person is required to respond to, nor shall a person be subject to a penalty for failure to comply with a collection of information subject to the requirements of the Paperwork Reduction Act (PRA) unless that collection of information displays a current valid Office of Management and Budget (OMB) control number. In accordance with the PRA, 44 U.S.C., Chapter 45, OMB approved the Annual Surveys under the following OMB control numbers: Current Industrial Reports—0607-0476, Annual Survey of Manufactures—0607-0449, Business R&D and Innovation Survey—0607-0912, Manufacturers' Unfilled Orders Survey—0607-0561.

Based upon the foregoing, I have directed that the Annual Surveys in the Manufacturing Area be conducted for the purpose of collecting these data.

Dated: November 1, 2010.
Robert M. Groves,
Director, Bureau of the Census.

[FR Doc. 2010-28085 Filed 11-4-10; 8:45 am]

BILLING CODE 3510-07-P